FEDERAL TRADE COMMISSION

Granting of Request for Early Termination of the Waiting Period Under the Premerger Notification Rules

Section 76A of the Clayton Act, 15 U.S.C. 18a, as added by Title II of the Hart-Scott-Radino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted by early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—04/07/2003
20030501 | A. Jerrold Perenchio | Lowell W. Paxson | A. Jerrold Perenchio.
Transactions Granted Early Termination—04/09/2003
20030474 | Odyssey Investment Partners Fund, LP | DLJ Merchant Banking Partners II, L.P | Odyssey Investment Partners Fund, LP.
20030482 | Novartis AG | Pfizer, Inc | Novartis AG.
Transactions Granted Early Termination—04/11/2003
20030478 | UXT AIV, L.P | TXU Energy Corp | UXT AIV, L.P.
20030489 | Round Table Healthcare Management, L.L.C | Mormon Holdings, Inc | Round Table Healthcare Management, L.L.C.
20030503 | Pegasus Partners II, L.P | Cannondale Corporation | Pegasus Partners II, L.P.
Transactions Granted Early Termination—04/14/2003
20021153 | UTStarcom, Inc | 3Com Corporation | UTStarcom, Inc.
20030500 | Clear Channel Communications, Inc | A Jerrold Perenchio | Clear Channel Communications, Inc.
20030506 | B. Thomas Golisano | Niagara Frontiere Hockey, L.P., Debtor in POssession | B. Thomas Golisano
20030508 | TRW Systems Federl Credit Union | Western Federal Credit Union | TRW Sytems Federal Credit Union
20030512 | Matlin Patterson Global Opportunities Partners L.P | Vantico Group S.A | Matlin Patterson Global Opportunities Partners L.P.
20030513 | Jon M. Huntsman | Vantico Group S.A | Jon M. Huntsman.
20030514 | EdPerPartners Limited | Great Northern Paper, Inc., (Debtor-in-Possession) | EdPerPartners Limited.
20030517 | CTI Foods, LLC | J.R. Simplot Company | CTI Foods, LLC.
Transactions Granted Early Termination—04/15/2003
20030494 | Novartis AG | Idenix Pharmaceuticals, Inc | Novartis AG.
20030502 | Bristol-Myers Squibb Company | OPR Development, L.P | Bristol-Meyers Squibb Company.
Transactions Granted Early Termination—04/16/2003
20030492 | UniSource Energy Corporation | Citizens Communication Company | UniSource Energy Corporation
20030523 | Gary L. and Mary E. West | ITC Holding Company, Inc | Gary L. and Mary E. West.
Transactions Granted Early Termination—04/17/2003
20030490 | KL Hldings Inc | ARAMARK Corporation | KL Holdings Inc.
20030493 | Fritz Gerber | Disetronic Holding AG | Fritz Gerber.
20030497 | Cumulus Media Inc | Gaylord Entertainment Company | Cumulus Media Inc.
20030510 | Wachovia Corporation | Prudential Financial, Inc | Wachovia Corporation.
Transactions Granted Early Termination—04/18/2003
20030518 | OCM Principal Oportunities Fund II, L.P | JR Shaw | OCM Priuncipal Opportunities Fund II, L.P.
20030521 | STrigeant Holdings, Ltd | El Paso Corporation | Trigeant Holdings, Ltd.
20030522 | Lincolnshiire Equity Fund II, L.P | Benetton Group S.p.A | Ljncolnshire Eqity Fund II, L.P.
20030526 | SR Telecom Inc | Netro Corporation | SR Telecom Inc.
20030527 | Round Table Healthcare Partners, L.P | MedAssist, Incorporated | RoundTable Healthcare Partners, L.P.
20030529 | Sports Brand International LLC | Holding di Partecipazioni Industrali S.p.A | Sports Brand International LLC.
20030531 | John Hancock Financial Services, Inc | Weyerhaeuser Company | John Hancock Financial Services, Inc.
20030532 | Mr. Paul G. Desmarais | Canada Life Financial Corporation | Mr. Paul G. Desmarais.
Transactions Granted Early Termination—04/23/2003
20030525 | Cablevision System Corporation | The News Corporation Limited | Cablevision System Corporation.
20030549 | Russell Corporation | SHC Inc | Russell Corporation.
Transactions Granted Early Termination—04/24/2003
20030486 | Cisco Systems, Inc | Victor Tsao and Janie Tsao | Cisco Systems, Inc.
20030487 | Victor Tsao and Janie Tsao | Cisco Systems, Inc | Victor Tsao and Janie Tsao.
20030528 | Swiss Reinsurance Company | Irish Life & Pemannt pic | Swiss Reinsurance Company.
20030544 | Apollo Investment Fund IV, L.P | Sylvan Learning Systems, Inc | Apollo Investment Fund IV, L.P.
20030545 | Sylvan Learning Systems, Inc | Sylvan Learning Systems, Inc | Sylvan Learning Systems, Inc.
Transactions Granted Early Termination—04/25/2003
20030515 | SPO Partners II, L.P | ProQuest Company | SPO Partners II, L.P.
20030541 | DeVry Inc | Dominica Management, Inc | DeVry Inc.
20030542 | Johnson & Johnson | Aimiall=Prodesfarma S/A | Johnson & Johnson.
20030548 | Cleveland-Cliffs Inc | Bethlehem Steel Corporation | Cleveland-Cliffs Inc.
20030553 | APAX Europe IV-A L.P | Xerium S.A | APAX Europe IV-A L.P.
Transactions Granted Early Termination—04/28/2003
20030554 | The Goldman Sachs Group, Inc | The Ayco Company, L.P | The Goldman Sachs Group, Inc.
20030565 | Bank One Corporation | Johnson & Johnson | Bank One Corporation.
20030571 | The Goldman Sachs Group, Inc | El Paso Corporation | The Goldman Sachs Group, Inc.
Transactions Granted Early Termination—04/29/2003
20030533 | Engineered Support Systems, Inc | William H. Bklawa and Lauri S. Bilawa | Engineered Support Systems, Inc.
20030555 | Kansas City Life Insurance Company | GuideOne Mutual Insurance Company | Kansas City Life Insurance Company.
20030559 | Wind Point Partners V, L.P | Midway Investors, LLC | Wind Point Partners V, L.P
200305 | Loews Corporation | The Williams Companies, Inc | Loews Corporation.
20030562 | AT&T Wireless Services, Inc | Everett R. Dobson Irrevocable Family Trust | AT&T Wireless Services, Inc.
20030563 | Everett R. Dobson Irrevocable Family Trust | AT&T Wireless Services, Inc. | Everett R. Dobson Irrevocable Family Trust.
20030564 | Dow Jones & Company, Inc | Omaha World-Herald Company | Dow Jones & Company, Inc
20030566 | Michael R. Kelly | National Services Industries, Inc | Michael R. Kelly
20030569 | Volcano Therapeutics, Inc | JOMED, N.V | Volcano Therapeutics, Inc.
Transactions Granted Early Termination—04/30/2003
20030543 | Computer Network Technology Corporation | SPX Corporation | Computer Network Technology Corporation.
Transactions Granted Early Termination—05/01/2003
20030534 | CIENA Corporation | WaveSmith Networks, Inc | CIENA Corporation.
20030547 | Fiserv, Inc | WB Investors of Wausau, LLC | Fiserv, Inc.
20030561 | NORPAC Foods, Inc | J.R. Simplot Company | NORPAC Foods, Inc.
Transactions Granted Early Termination—05/05/2003
20030568 | Andrew Corporation | Allen Telecom Inc | Andrew Corporation.
20030573 | Berkshire Hathaway Inc | Clayton Homes, Inc | Berkshire Hathaway Inc.
20030575 | General Electric Company | Cogentrix Energy, Inc | General Elecrtric Company.
20030579 | Marc A. Utay | Janet R. Mordecai | Marc A. Utay.
20030584 | Allergan, Inc | Farallon Pharma Investors, LLC | Allergan, Inc.
Transactions Granted Early Termination—05/06/2003
20030568 | Berkshire Hathaway Inc | Harvey N. Gainey, Sr | Berkshire Hathaway Inc.
20030580 | Appollo Investment Fund V, LP | Hayes Lemmerz International, Inc | Appollo Investment Fund V, L.P.
20030581 | Whitney V, L.P | Tom T. Gores | Whitney V, L.P.
20030582 | Arturo R. Moreno | The Walt Disney Company | Arturo R. Moreno.
20030583 | Citigroup Inc | Euramax International, Inc | Citigroup Inc.
20030585 | FMR Corp | UBS AB | FMR Corp.
Transactions Granted Early Termination—05/08/2003
20030552 | Kenneth R. Thomson | Elite Information Group, Inc | Kenneth R. Thompson.
20030567 | Nationwide Mutual Insurance Company | Prudential Financial, Inc | Nationwide Mutual Insurance Company.
20030572 | Amersham plc | Oncura Inc | Amersham plc.
Transactions Granted Early Termination—05/09/2003
20030586 | Sun Capital Partners II L.P | Owens Corning | Sun Capital Partners II L.P.

FOR FURTHER INFORMATION CONTACT: Sandra M. Peay, Contact Representative or Renee Hallman, Legal Technician, Federal Trade Commission, Premerger Notification Office, Bureau of Competition, Room H-303, Washington, DC 20580, (202) 326-3100.

By Direction of the Commission.
Donald S. Clark,
Secretary.

[FR Doc. 03-13251 Filed 5-27-03; 8:45 am]

BILLING CODE 6750-01-M